DEPARTMENT OF THE INTERIOR

National Park Service

Notice of Inventory Completion for Native American Human Remains and Associated Funerary Objects in the Possession of the Phoebe A. Hearst Museum of Anthropology, University of California, Berkeley, CA

AGENCY: National Park Service, Interior.

ACTION: Notice.

Notice is hereby given in accordance with provisions of the Native American Graves Protection and Repatriation Act (NAGPRA), 43 CFR 10.9, of the completion of an inventory of human remains and associated funerary objects in the possession of the Phoebe A. Hearst Museum of Anthropology, University of California, Berkeley, CA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by Phoebe A. Hearst Museum of Anthropology professional staff in consultation with representatives of the Klamath Indian Tribe of Oregon and the Quartz Valley Indian Community of the Quartz Valley Reservation of California.

In 1925, human remains representing three individuals (catalog numbers 12-11213, 12-11214, 12-11215) were recovered from a site “one mile from mouth of Williamson R. (N. side), E. side Klamath L., Oregon” by Dr. Leslie Spier. Also in 1925, these human remains were acquired by the Phoebe A. Hearst Museum of Anthropology through university appropriation, a term used to indicate that the human remains and associated funerary objects were brought into the museum on university-sponsored projects with funds provided by the Regents of the University of California. No known individuals were identified. The 200 associated funerary objects (catalog numbers 1-26560, 2-29527) are glass beads and nonhuman bone.

Although these human remains are not clearly identifiable as to tribal origin, given the preponderance of the evidence, these human remains and associated funerary objects have been determined to be culturally affiliated with the Klamath Indian Tribe of Oregon and the Quartz Valley Indian Community of the Auartz Valley Reservation of California. This determination has been based on strong geographical evidence, linguistic evidence, regional archeological evidence indicating cultural continuity perhaps as early as C.E. 700, and the presence of historic-era funerary objects.

Based on the above-mentioned information, officials of the Phoebe A. Hearst Museum of Anthropology have determined that, pursuant to 43 CFR 10.2 (d)(1), the human remains listed above represent the physical remains of three individuals of Native American ancestry. Officials of the Phoebe A. Hearst Museum of Anthropology also have determined that, pursuant to 43 CFR 10.2 (d)(2), the 200 objects listed above are reasonably believed to have been placed with or near individual human remains at the time of death or later as part of the death rite or ceremony. Lastly, officials of the Phoebe A. Hearst Museum of Anthropology also have determined that, pursuant to 43 CFR 10.2 (e), there is a relationship of shared group identity that can be reasonably traced between these Native American human remains and associated funerary objects and the Klamath Indian Tribe of Oregon and the Quartz Valley Indian Community of the Quartz Valley Reservation of California.

This notice has been sent to officials of the Klamath Indian Tribe of Oregon and the Quartz Valley Indian Community of the Quartz Valley Reservation of California. Representatives of any other Indian tribe that believes itself to be culturally affiliated with these human remains and associated funerary objects should contact C. Richard Hitchcock, NAGPRA Coordinator, Phoebe A. Hearst Museum of Anthropology, University of California, Berkeley, CA 94720, telephone (510) 643-7884, before December 5, 2001. Repatriation of the human remains and associated funerary objects to the Klamath Indian Tribe of Oregon and the Quartz Valley Indian Community of the Quartz Valley Reservation of California may begin after that date if no additional claimants come forward.

Dated: October 3, 2001.
John Robbins,
Assistant Director, Cultural Resources Stewardship and Partnerships.

[FR Doc. 01-27704 Filed 11-2-01; 8:45 am]

BILLING CODE 4310-70-S